DEPARTMENT OF HEALTH AND HUMAN SERVICES

Administration for Children and Families

Submission for OMB Review; Comment Request

Title: National Directory of New Hires.

OMB No.: 0970-0166.

Description: Public Law 104-193, the “Personal Responsibility and Work Opportunity Reconciliation Act of 1996,” requires the Office of Child Support Enforcement (OCSE) to operate a National Directory of New Hires (NDNH) to improve the ability of State child support enforcement agencies to locate noncustodial parents and collect child support across State lines. The law requires employers to report newly hired employees to States. States are then required to periodically transmit new hire data received from employers to the NDNH, and to transmit wage and unemployment compensation claims data to the NDNH on a quarterly basis. Federal agencies are required to report new hires and quarterly wage data directly to the NDNH. All data is transmitted to the NDNH electronically.

Respondents: Employers, State Child Support Enforcement Agencies, State Workforce Agencies, Federal Agencies.

Annual Burden Estimates
Instrument | Number of respondents | Number of responses per respondent | Average burden hours per response | Total burden hours
New Hire: Employers Reporting Manually | 5,166,000 | 3.484 | .025 | 449,959
New Hire: Employers Reporting Electronically | 1,134,000 | 33.272 | .00028 | 10,565
New Hire: States | 54 | 83.333 | 66.7 | 300,150
Quarterly Wage & Unemployment Compensation | 53 | 8 | .033 | 14
Multistate Employers' Notification Form | 4,176 | 1 | .050 | 209

Estimated Total Annual Burden Hours: 760,897.

Additional Information: Copies of the proposed collection may be obtained by writing to the Administration for Children and Families, Office of Administration, Office of Information Services, 370 L'Enfant Promenade, SW., Washington, DC 20447, Attn: ACF Reports Clearance Officer. E-mail address: infocollection@acf.hhs.gov. All requests should be identified by the title of the information collection.

OMB Comment: OMB is required to make a decision concerning the collection of information between 30 and 60 days after the publication of this document in the Federal Register. Therefore, a comment is best assured of having its full effect if OMB receives it within 30 days of publication. Written comments and recommendations for the proposed information collection should be sent directly to the following: Office of Management and Budget, Paperwork Reduction Project, FAX: 202-395-6974, Attn: Desk Officer for the Administration for Children and Families.

Dated: February 18, 2010.
Robert Sargis,
Reports Clearance Officer.

[FR Doc. 2010-3584 Filed 2-24-10; 8:45 am]

BILLING CODE 4184-01-M